Title 3—

The President

Proclamation 7936 of September 30, 2005

National Breast Cancer Awareness Month, 2005

By the President of the United States of America

A Proclamation

Breast cancer is the second most common kind of cancer and the second leading cause of cancer deaths among women in the United States. During National Breast Cancer Awareness Month, we renew our commitment to making progress in the fight to prevent, detect, treat, and cure this deadly disease.

Although we do not yet know the exact causes of breast cancer, researchers have discovered several factors that can increase a person's risk of developing the disease, including age, characteristics of certain genes, and a family history of breast cancer. It is important for individuals to seek medical advice about risk factors and screening methods.

Because treatment is more likely to be successful when breast cancer is detected early, regular screening is vital. The National Cancer Institute (NCI) and the United States Preventive Services Task Force recommend that women age 40 and over have a mammogram every 1 to 2 years. Women with an increased risk of breast cancer should talk to their doctors about getting mammograms even before the age of 40. To increase awareness about the importance of regular screening, the NCI's Cancer Information Service Partnership Program collaborates with nonprofit, private, and government agencies across the country to provide information to people most in need.

America leads the world in medical research, and we are committed to continuing progress in the search for a cure for breast cancer. The National Institute of Environmental Health Sciences and the NCI are conducting research into genetic and environmental factors that may increase breast cancer risk. The NCI is also sponsoring one of the largest studies ever conducted on breast cancer prevention, enrolling more than 19,000 women. This year alone, the National Institutes of Health, the CDC, and the Department of Defense will collectively spend more than $850 million on breast cancer research.

This month, we recognize breast cancer survivors, those battling the disease, and the family members and friends who are a tireless source of love and encouragement for these individuals. Their courage, hope, and faith are an inspiration to all of us. We appreciate the efforts of medical professionals and researchers who work to find a cure for this deadly disease, and I urge all Americans to talk with friends and loved ones about the importance of breast cancer screening and early detection. By working together, we can raise awareness and help people live longer and healthier lives.

NOW, THEREFORE, I, GEORGE W. BUSH, President of the United States of America, by virtue of the authority vested in me by the Constitution and laws of the United States, do hereby proclaim October 2005 as National Breast Cancer Awareness Month. I call upon Government officials, businesses, communities, health care professionals, educators, volunteers, and all the people of the United States to continue our Nation's strong commitment to preventing and treating breast cancer and to finding a cure for this disease.

IN WITNESS WHEREOF, I have hereunto set my hand this thirtieth day of September, in the year of our Lord two thousand five, and of the Independence of the United States of America the two hundred and thirtieth.

B

[FR Doc. 05-20152

Filed 10-4-05; 9:56 am]

Billing code 3195-01-P